ENVIRONMENTAL PROTECTION AGENCY

[FRL-7985-3]

National Advisory Council for Environmental Policy and Technology

AGENCY: Environmental Protection Agency (EPA).

ACTION: Notice of meeting.

SUMMARY: Under the Federal Advisory Committee Act, Public Law 92463, EPA gives notice of a meeting of the National Advisory Council for Environmental Policy and Technology (NACEPT). NACEPT provides advice to the EPA Administrator on a broad range of environmental policy, technology, and management issues. The Council is a panel of experts who represent diverse interests from academia, industry, non-governmental organizations, and local, state, and tribal governments. The purpose of this meeting is to discuss potential NACEPT projects over the coming two years, including review of EPA's Strategic Plan, environmental foresight, environmental technology, and environmental indicators. A copy of the agenda for the meeting will be posted at http://www.epa.gov/ocem/nacept/cal-nacept.htm.

DATES: NACEPT will hold a two day open meeting on Thursday, November 3, from 8:30 a.m. to 5:30 p.m. and Friday, November 4, from 8:30 a.m. to 2 p.m.

ADDRESSES: The meeting will be held at the Embassy Suites Hotel Crystal City, 1300 Jefferson Davis Highway, Arlington, Virginia 22202. The meeting is open to the public, with limited seating on a first-come, first-served basis.

FOR FURTHER INFORMATION CONTACT: Sonia Altieri, Designated Federal Officer, altieri.sonia@epa.gov, (202) 233-0061, U.S. EPA, Office of Cooperative Environmental Management (1601E), 1200 Pennsylvania Avenue NW., Washington, DC 20460.

SUPPLEMENTARY INFORMATION: Requests to make oral comments or to provide written comments to the Council should be sent to Sonia Altieri, Designated Federal Officer, at the contact information above. The public is welcome to attend all portions of the meeting.

Meeting Access: For information on access or services for individuals with disabilities, please contact Sonia Altieri at 202-233-0061 or altieri.sonia@epa.gov. To request accommodation of a disability, please contact Sonia Altieri, preferably at least 10 days prior to the meeting, to give EPA as much time as possible to process your request.

Dated: October 5, 2005.
Sonia Altieri,
Designated Federal Officer.

[FR Doc. 05-20824 Filed 10-17-05; 8:45 am]

BILLING CODE 6560-50-P